DEPARTMENT OF HOMELAND SECURITY

[Docket No. DHS-2025-0910]

Notice of Partially Closed Federal Advisory Committee Meeting

AGENCY: Office of Partnership and Engagement, Department of Homeland Security.

ACTION: Notice.

SUMMARY: The Office of Partnership and Engagement is publishing this notice to announce that the Homeland Security Advisory Council will meet in person on Wednesday, December 10, 2025. This meeting will be partially closed to the public. This meeting will be led by the Secretary of Homeland Security to discuss new taskings for the Council and sensitive DHS Operations.

DATES: Meeting Registration: Registration to attend the meeting is required and must be received via email no later than 5 p.m. Eastern Daylight Time (EDT) on Monday, December 8, 2025. The meeting will take place from 9:00 a.m. to 12:30 p.m. EDT on Wednesday, December 10, 2025. The meeting will be open to the public via livestream from 9:00 a.m. to 10:00 a.m. EDT. The meeting will be closed to the public from 10:00 a.m. to 12:30 p.m. EDT. The meeting may end early if the Council has completed its business.

ADDRESSES: The Council meeting will be held at the Department of Homeland Security—St. Elizabeths Campus in Washington, DC. Members of the public may attend the open session via livestream following the process outlined below. For those attending the meeting you will be in listen-only mode.

FOR FURTHER INFORMATION CONTACT: Sara Perkins, Designated Federal Officer, Homeland Security Advisory Council at (202) 269-2419 or HSAC@hq.dhs.gov.

SUPPLEMENTARY INFORMATION: The Council provides organizationally independent, strategic, timely, specific, actionable advice, and recommendations to the Secretary of Homeland Security on matters related to homeland security. The Council serves strictly as an advisory body with the purpose of providing advice upon request of the Secretary.

Notice of this meeting is given under Section 10(a) of the Federal Advisory Committee Act, Public Law 92-463 (5 U.S.C. Ch. 10), which requires each Council meeting to be open to the public unless the President, or the head of the agency to which the advisory council reports, determines that a portion of the meeting may be closed to the public in accordance with 5 U.S.C. 552b(c).

Agenda: The Council will meet in an open session from 9:00 a.m. until 10:00 a.m. Eastern Daylight Time. The Council will discuss new taskings for the Council. The open session meeting may end early if the Council has completed its business.

Meeting instructions for virtual attendance. Members of the public may register to observe this Council meeting via livestream under the following procedures. Each individual must provide their full legal name and email address no later than 5:00 p.m. Eastern Daylight Time on Monday, December 8, 2025, to Sara Perkins, Designated Federal Officer of the Homeland Security Advisory Council, via email to HSAC@hq.dhs.gov. Members of the public who have registered to observe will be provided the agenda, and livestream link. For more information about the Homeland Security Advisory Council, please visit our website: https://www.dhs.gov/homeland-security-advisory-council.

The Council is committed to ensuring all participants have equal access regardless of disability status. If you require a reasonable accommodation due to a disability to fully participate, please contact Sara Perkins at HSAC@hq.dhs.gov as soon as possible.

Basis for Partial Closure: In accordance with Section 10(d) of FACA, the Secretary of Homeland Security has determined this meeting must be partially closed as the disclosure of the information relayed would be detrimental to the public interest for the following reasons:

The Council will participate in a sensitive operational discussion containing For Official Use Only and Law Enforcement Sensitive information. This discussion will include information regarding threats facing the United States and how DHS plans to address those threats. The session is closed pursuant to 5 U.S.C. 552b(c)(9)(B) because the disclosure of this information could significantly frustrate implementation of proposed agency actions.

Dated: November 24, 2025.
Sara Perkins,
Designated Federal Officer, Homeland Security Advisory Council, Department of Homeland Security.

[FR Doc. 2025-21800 Filed 12-2-25; 8:45 am]

BILLING CODE 9112-FN-P